DEPARTMENT OF COMMERCE

National Oceanic and Atmospheric Administration

Proposed Information Collection; Comment Request; Implementation of Vessel Speed Restrictions To Reduce the Threat of Ship Collisions With North Atlantic Right Whales

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 28, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Gregory Silber, Ph.D., Fishery Biologist, Office of Protected Resources, NMFS, (301) 427-8485.

SUPPLEMENTARY INFORMATION:

I. Abstract

This request is for an extension of a current information collection. On October 10, 2008, NMFS published a final rule promulgated under the Endangered Species Act implementing speed restrictions to reduce the incidence and severity of ship collisions with North Atlantic right whales (73 FR 60173). That final rule contained a collection-of-information requirement subject to the Paperwork Reduction act (PRA). Specifically, 50 CFR 224.105(c) requires a logbook entry to document that a deviation from the 10-knot speed limit was necessary for safe maneuverability under certain conditions.

In certain sea and weather conditions, a large ship may lose maneuverability at slow speeds. Therefore, under such conditions a ship, at the captain's discretion, may opt not to abide by the speed restrictions. If she/he chooses this option, she/he is required to make an entry into the ship's log, providing such information as: The reasons for the deviation, the speed at which the vessel is operated, the area, and the time and duration of such deviation.

II. Method of Collection

Typically, paper logbooks are not routinely submitted to a federal agency and remain entirely on individual vessels. However, logbooks may be requested by federal authorities if questions arise regarding the circumstances under which the deviation was invoked.

III. Data

OMB Control Number: 0648-0580.

Form Number: None.

Type of Review: Regular (extension of a current information collection).

Affected Public: Business or other for-profit organizations.

Estimated Number of Respondents: 3,000.

Estimated Time per Response: 5 minutes.

Estimated Total Annual Burden Hours: 250.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 24, 2016.
Sarah Brabson,
NOAA PRA Clearance Officer.

[FR Doc. 2016-20661 Filed 8-26-16; 8:45 am]

BILLING CODE 3510-22-P